DEPARTMENT OF ENERGY

Office of Energy Efficiency and Renewable Energy

[Case No. CR-007]

Notice of Petition for Waiver of ITW Food Equipment Group, LLC From the Department of Energy Commercial Refrigeration Equipment Test Procedures and Grant of Interim Waiver

AGENCY: Office of Energy Efficiency and Renewable Energy, Department of Energy.

ACTION: Notice of petition for waiver and grant of interim waiver, and request for public comment.

SUMMARY: This notice announces receipt of and publishes a petition for waiver from ITW Food Equipment Group, LLC (ITW) seeking an exemption from specified portions of the U.S. Department of Energy (DOE) test procedure for determining the energy consumption of commercial refrigeration equipment under the regulations for basic models of their Innopod temperature controlled grocery and general merchandise system (Innopod). ITW requests modifications, as specified in its petition for waiver, to the existing DOE test procedure, which references Air-Conditioning, and Refrigeration Institute (ARI) Standard 1200-2006 and Air-Conditioning, Heating, and Refrigeration Institute (AHRI) Standard 1200 (I-P)-2010 that further references American National Standards Institute/American Society of Heating, Refrigerating and Air-Conditioning Engineers (ANSI/ASHRAE) Standard 72. ITW submitted to DOE an alternate test procedure that allows for testing of specified Innopod basic models. This notice also announces that DOE has granted ITW an interim waiver from the DOE commercial refrigeration equipment test procedures for the specified commercial refrigeration equipment basic models, subject to use of the alternative test procedure as set forth in this notice. DOE solicits comments, data, and information concerning ITW's petition and its suggested alternate test procedure.

DATES: DOE will accept comments, data, and information with regard to the ITW petition until August 18, 2017.

ADDRESSES: You may submit comments, identified by Case No. CR-007, by any of the following methods:

• Federal eRulemaking Portal: http://www.regulations.gov. Follow the instructions for submitting comments.

• Email: AS_Waiver_Requests@ee.doe.gov. Include the case number [Case No. CR-007] in the subject line of the message. Submit electronic comments in WordPerfect, Microsoft Word, PDF, or ASCII file format, and avoid the use of special characters or any form of encryption.

• Postal Mail: Mr. Bryan Berringer, U.S. Department of Energy, Building Technologies Office, Mailstop EE-5B, Petition for Waiver Case No. CR-007, 1000 Independence Avenue SW., Washington, DC 20585-0121. Telephone: (202) 586-0371. If possible, please submit all items on a compact disc (CD), in which case it is not necessary to include printed copies.

• Hand Delivery/Courier: Appliance and Equipment Standards Program, U.S. Department of Energy, Building Technologies Office, 950 L'Enfant Plaza SW., 6th Floor, Washington, DC, 20024. Telephone: (202) 586-6636. If possible, please submit all items on a CD, in which case it is not necessary to include printed copies.

Docket: The docket, which includes Federal Register notices, comments, and other supporting documents/materials, is available for review at http://www.regulations.gov. All documents in the docket are listed in the http://www.regulations.gov index. However, some documents listed in the index, such as those containing information that is exempt from public disclosure, may not be publicly available.

FOR FURTHER INFORMATION CONTACT: Mr. Bryan Berringer, U.S. Department of Energy, Building Technologies Office, Mailstop EE-5B, 1000 Independence Avenue SW., Washington, DC 20585-0121. Telephone: (202) 586-0371. Email: AS_Waiver_Requests@ee.doe.gov.

SUPPLEMENTARY INFORMATION:

I. Background and Authority

Title III, Part C ¹ of the Energy Policy and Conservation Act of 1975 (EPCA), Public Law 94-163 (42 U.S.C. 6311-6316, as codified) established the Energy Conservation Program for Certain Industrial Equipment, which includes commercial refrigeration equipment.² Part C includes definitions, test procedures, labeling provisions, energy conservation standards, and the authority to require information and reports from manufacturers. Further, Part C authorizes the Secretary of Energy to prescribe test procedures that are reasonably designed to produce results that measure energy efficiency, energy use, or estimated operating costs during a representative average-use cycle, and that are not unduly burdensome to conduct. (42 U.S.C. 6314(a)(2)) The test procedure for commercial refrigeration equipment is contained in Title 10 of the CFR part 431, subpart C, appendix B, “Amended Uniform Test Method for the Measurement of Energy Consumption of Commercial Refrigerators, Freezers, and Refrigerator-Freezers.”

¹ For editorial reasons, upon codification in the U.S. Code, Part C was redesignated as Part A-1.

² All references to EPCA in this document refer to the statute as amended through the Energy Efficiency Improvement Act of 2015 (EEIA), Public Law 114-11 (April 30, 2015).

DOE's regulations set forth at 10 CFR 431.401 contain provisions that allow a person to seek a waiver from the test procedure requirements for a particular basic model of a type of covered equipment when the petitioner's basic model for which the petition for waiver was submitted contains one or more design characteristics that either (1) prevent testing according to the prescribed test procedures; or (2) cause the prescribed test procedures to evaluate the basic model in a manner so unrepresentative of its true energy consumption as to provide materially inaccurate comparative data. 10 CFR 431.401(a)(1). A petitioner must include in its petition any alternate test procedures known to the petitioner to evaluate the basic model in a manner representative of its energy consumption. 10 CFR 431.401(b)(1)(iii).

DOE may grant a waiver subject to conditions, including adherence to alternate test procedures. 10 CFR 431.401(f)(2). As soon as practicable after the granting of any waiver, DOE will publish in the Federal Register a notice of proposed rulemaking to amend its regulations so as to eliminate any need for the continuation of such waiver. As soon thereafter as practicable, DOE will publish in the Federal Register a final rule. 10 CFR 431.401(l).

The waiver process also allows DOE to grant an interim waiver if it appears likely that the petition for waiver will be granted and/or if DOE determines that it would be desirable for public policy reasons to grant immediate relief pending a determination on the petition for waiver. 10 CFR 431.401(e)(2). Within one year of issuance of an interim waiver, DOE will either: (i) Publish in the Federal Register a determination on the petition for waiver; or (ii) publish in the Federal Register a new or amended test procedure that addresses the issues presented in the waiver. 10 CFR 431.401(h)(1). When DOE amends the test procedure to address the issues presented in a waiver, the waiver will automatically terminate on the date on which use of that test procedure is required to demonstrate compliance. 10 CFR 431.401(h)(2).

II. ITW's Petition for Waiver of Test Procedure and Application for Interim Waiver

On December 20, 2016, ITW submitted a petition for waiver and interim waiver pursuant to 10 CFR 431.401 pertaining to DOE's test procedure at 10 CFR part 431, subpart C, appendix B, for their Innopod temperature controlled grocery and general merchandise system (Innopod) basic models of commercial refrigeration equipment. ITW's initial petition included twenty-two base model configurations. On May 3, 2017, ITW provided DOE with the complete list of 200 basic models covered by the twenty-two base model configurations. ITW petitioned for a waiver and interim waiver from various DOE test procedure requirements.

DOE's current test procedure references Air-Conditioning, and Refrigeration Institute (ARI) Standard 1200-2006 and Air-Conditioning, Heating, and Refrigeration Institute (AHRI) Standard 1200 (I-P)-2010, which further references American National Standards Institute/American Society of Heating, Refrigerating and Air-Conditioning Engineers (ANSI/ASHRAE) Standard 72 (incorporated by reference at 10 CFR 431.63 (c) and (d)). ITW asserts that these current test procedures do not account for the unique operating characteristics of the Innopod basic models. Because the specific design of this product line contains one or more design characteristics noted in the waiver request, including floating suction temperatures for individual compartments, different typical door-opening cycles, and a high-temperature “ambient” compartment, ITW believes that its petition and combined application meets both conditions of 10 CFR 431.401(a)(1) for granting waivers, on the grounds that: (1) The petitioner's basic model contains one or more design characteristics that prevent testing according to the prescribed test procedures; and (2) The prescribed test procedures may evaluate the basic model in a manner so unrepresentative of its true energy consumption as to provide materially inaccurate comparative data. ITW submitted to DOE an alternate test procedure that allows for testing of its Innopod basic models.

ITW's Innopod basic models include multiple thermally separated, temperature controlled compartments supplied with refrigerant from a single condensing unit. ITW's petition proposes an alternate test using an “inverse refrigeration load” test, various calculations to account for refrigeration system and component energy consumption, and adjustments to the door opening requirements based on typical use in the field. ITW's proposed refrigeration system calculations rely on the current calculations and assumptions used for testing remote condensing commercial refrigeration equipment in accordance with the DOE test procedure.

As previously noted, an interim waiver may be granted if it appears likely that the petition for waiver will be granted, and/or if DOE determines that it would be desirable for public policy reasons to grant immediate relief pending a determination of the petition for waiver. See 10 CFR 431.401(e)(2).

DOE understands that absent an interim waiver, the basic models identified by ITW in its petition cannot be tested and rated for energy consumption on a basis representative of their true energy consumption characteristics. DOE has reviewed the alternate procedure suggested by ITW and concludes that it will allow for the accurate measurement of the energy use of these equipment, while alleviating the testing problems associated with ITW's implementation of DOE's applicable commercial refrigeration equipment test procedure for the specified Innopod models. However, DOE has clarified how ITW should determine basic models, as discussed in section III of this notice, and adjusted certain aspects of the requested alternate test procedure regarding ambient test conditions, referenced industry standards, and calculations, as discussed in section IV of this notice. Thus, DOE has determined that ITW's petition for waiver will likely be granted and has decided that it is desirable for public policy reasons to grant ITW immediate relief pending a determination on the petition for waiver.

III. Petition for Waiver and Interim Waiver Basic Models

ITW's initial petition for waiver and interim waiver, submitted on December 20, 2016, included a list of twenty-two “base model configurations” of its Innopod equipment. However, based on the descriptions of the compartment configurations provided for each base model configuration, DOE expects that the list does not provide each basic model to which the waiver and interim waiver would apply.

Specifically, DOE noted that many of the base model configurations include compartments that are convertible between the freezer and refrigerator temperature operating ranges. With respect to multi-mode operation, DOE has taken the position in the most recent commercial refrigeration equipment test procedure final rule that self-contained equipment or remote condensing equipment with thermostats capable of operating at temperatures that span multiple equipment categories must be certified and comply with DOE's regulations for each applicable equipment category. 79 FR 22291 (April 21, 2014).

Additionally, DOE notes that its current regulations allow for the use of alternative efficiency determination methods (AEDMs), which allow manufacturers to simulate the energy use of untested basic models once a manufacturer has a validated AEDM and could be used to simulate results at other rating temperatures. 10 CFR 429.70.

Under DOE's definition of a basic model as “equipment manufactured by one manufacturer within a single equipment class, having the same primary energy source, and that have essentially identical electrical, physical, and functional characteristics that affect energy consumption” (10 CFR 431.62), the base model configurations in ITW's initial petition would represent multiple basic models depending on the set point of the convertible compartments. DOE requested that ITW provide an updated list of basic models, consistent with DOE's definition of basic model, that would be covered by the petition for waiver and request for interim waiver. ITW provided DOE with the updated list of basic model numbers on May 3, 2017.

ITW's petition also describes compartments that are convertible between refrigerator and ambient temperature ranges. These compartments would only be considered refrigerator compartments under DOE's definitions (compartments capable of operating at or above 32 °F (±2 °F)). Accordingly, these compartments would only be tested and rated at the refrigerator compartment standardized temperature (38 °F).

IV. Summary of Grant of Interim Waiver

For the reasons stated in section II of this notice, DOE has granted ITW's application for interim waiver from testing for its specified commercial refrigeration equipment basic models, with minor modifications to the proposed approach. The substance of the interim waiver is summarized below.

ITW is required to test and rate the specified ITW commercial refrigeration equipment Innopod basic models ³ according to the alternate test procedure as set forth in section V, “Alternate Test Procedure.” DOE has revised ITW's proposed test approach to reflect ambient test conditions that are consistent with those required in the DOE test procedure. DOE has determined that the ambient condition requirement would not prevent testing of the Innopod basic models. Additionally, DOE has revised ITW's proposed alternate approach to reference the current version of the AHRI 1200 standard referenced in DOE's existing test procedure. Further, DOE has clarified certain details of the necessary measurements and calculations in the granted interim waiver.

³ 30-XX-X5-AAAAR, 30-XX-X5-AAARA, 30-XX-X5-AAARR, 30-XX-X5-AAAFA, 30-XX-X5-AAAFR, 30-XX-X5-AARAA, 30-XX-X5-AARAR, 30-XX-X5-AARRA, 30-XX-X5-AARRR, 30-XX-X5-AARFA, 30-XX-X5-AARFR, 30-XX-X5-AAFAA, 30-XX-X5-AAFAR, 30-XX-X5-AAFRA, 30-XX-X5-AAFRR, 30-XX-X5-AAFFA, 30-XX-X5-AAFFR, 30-XX-X5-ARAAA, 30-XX-X5-ARAAR, 30-XX-X5-ARARA, 30-XX-X5-ARARR, 30-XX-X5-ARAFA, 30-XX-X5-ARAFR, 30-XX-X5-ARRAA, 30-XX-X5-ARRAR, 30-XX-X5-ARRRA, 30-XX-X5-ARRRR, 30-XX-X5-ARRFA, 30-XX-X5-ARRFR, 30-XX-X5-ARFAA, 30-XX-X5-ARFAR, 30-XX-X5-ARFRA, 30-XX-X5-ARFRR, 30-XX-X5-ARFFA, 30-XX-X5-ARFFR, 30-XX-X5-AFAAA, 30-XX-X5-AFAAR, 30-XX-X5-AFARA, 30-XX-X5-AFARR, 30-XX-X5-AFAFA, 30-XX-X5-AFAFR, 30-XX-X5-AFRAA, 30-XX-X5-AFRAR, 30-XX-X5-AFRRA, 30-XX-X5-AFRRR, 30-XX-X5-AFRFA, 30-XX-X5-AFRFR, 30-XX-X5-AFFAA, 30-XX-X5-AFFAR, 30-XX-X5-AFFRA, 30-XX-X5-AFFRR, 30-XX-X5-RAAAA, 30-XX-X5-RAAAR, 30-XX-X5-RAARA, 30-XX-X5-RAARR, 30-XX-X5-RAAFA, 30-XX-X5-RAAFR, 30-XX-X5-RARAA, 30-XX-X5-RARAR, 30-XX-X5-RARRA, 30-XX-X5-RARRR, 30-XX-X5-RARFA, 30-XX-X5-RARFR, 30-XX-X5-RAFAA, 30-XX-X5-RAFAR, 30-XX-X5-RAFRA, 30-XX-X5-RAFRR, 30-XX-X5-RAFFA, 30-XX-X5-RAFFR, 30-XX-X5-RRAAA, 30-XX-X5-RRAAR, 30-XX-X5-RRARA, 30-XX-X5-RRARR, 30-XX-X5-RRAFA, 30-XX-X5-RRAFR, 30-XX-X5-RRRAA, 30-XX-X5-RRRAR, 30-XX-X5-RRRRA, 30-XX-X5-RRRFA, 30-XX-X5-RRFAA, 30-XX-X5-RRFAR, 30-XX-X5-RRFRA, 30-XX-X5-RRFFA, 30-XX-X5-RFAAA, 30-XX-X5-RFAAR, 30-XX-X5-RFARA, 30-XX-X5-RFARR, 30-XX-X5-RFAFA, 30-XX-X5-RFAFR, 30-XX-X5-RFRAA, 30-XX-X5-RFRAR, 30-XX-X5-RFRRA, 30-XX-X5-RFRFA, 30-XX-X5-RFFAA, 30-XX-X5-RFFAR, 30-XX-X5-RFFRA, 30-XX-X5-FAAAA, 30-XX-X5-FAAAR, 30-XX-X5-FAARA, 30-XX-X5-FAARR, 30-XX-X5-FAAFA, 30-XX-X5-FAAFR, 30-XX-X5-FARAA, 30-XX-X5-FARAR, 30-XX-X5-FARRA, 30-XX-X5-FARRR, 30-XX-X5-FARFA, 30-XX-X5-FARFR, 30-XX-X5-FAFAA, 30-XX-X5-FAFAR, 30-XX-X5-FAFRA, 30-XX-X5-FAFRR, 30-XX-X5-FRAAA, 30-XX-X5-FRAAR, 30-XX-X5-FRARA, 30-XX-X5-FRARR, 30-XX-X5-FRAFA, 30-XX-X5-FRAFR, 30-XX-X5-FRRAA, 30-XX-X5-FRRAR, 30-XX-X5-FRRRA, 30-XX-X5-FRRFA, 30-XX-X5-FRFAA, 30-XX-X5-FRFAR, 30-XX-X5-FRFRA, 30-XX-X5-FFAAA, 30-XX-X5-FFAAR, 30-XX-X5-FFARA, 30-XX-X5-FFARR, 30-XX-X5-FFRAA, 30-XX-X5-FFRAR, 30-XX-X5-FFRRA, 30-XX-X4A-AAAR, 30-XX-X4A-AARA, 30-XX-X4A-AARR, 30-XX-X4A-ARAA, 30-XX-X4A-ARAR, 30-XX-X4A-ARRA, 30-XX-X4A-ARRR, 30-XX-X4A-AFAA, 30-XX-X4A-AFAR, 30-XX-X4A-AFRA, 30-XX-X4A-AFRR, 30-XX-X4A-RAAA, 30-XX-X4A-RAAR, 30-XX-X4A-RARA, 30-XX-X4A-RARR, 30-XX-X4A-RRAA, 30-XX-X4A-RRAR, 30-XX-X4A-RRRA, 30-XX-X4A-RFAA, 30-XX-X4A-RFAR, 30-XX-X4A-RFRA, 30-XX-X4A-FAAA, 30-XX-X4A-FAAR, 30-XX-X4A-FARA, 30-XX-X4A-FARR, 30-XX-X4A-FRAA, 30-XX-X4A-FRAR, 30-XX-X4A-FRRA, 30-XX-X4A-FFAA, 30-XX-X4A-FFAR, 30-XX-X4A-FFRA, 30-XX-X4B-AAAR, 30-XX-X4B-AARA, 30-XX-X4B-AARR, 30-XX-X4B-AAFA, 30-XX-X4B-AAFR, 30-XX-X4B-ARAA, 30-XX-X4B-ARAR, 30-XX-X4B-ARRA, 30-XX-X4B-ARRR, 30-XX-X4B-ARFA, 30-XX-X4B-ARFR, 30-XX-X4B-AFAA, 30-XX-X4B-AFAR, 30-XX-X4B-AFRA, 30-XX-X4B-AFRR, 30-XX-X4B-AFFA, 30-XX-X4B-AFFR, 30-XX-X4B-RAAA, 30-XX-X4B-RAAR, 30-XX-X4B-RARA, 30-XX-X4B-RARR, 30-XX-X4B-RAFA, 30-XX-X4B-RAFR, 30-XX-X4B-RRAA, 30-XX-X4B-RRAR, 30-XX-X4B-RRRA, 30-XX-X4B-RRFA, 30-XX-X4B-RFAA, 30-XX-X4B-RFAR, 30-XX-X4B-RFRA, 30-XX-X4B-RFFA, 30-XX-XX-3-AAR, 30-XX-XX-3-30-XX-XX-3-ARA, 30-XX-XX-3-ARR, 30-XX-XX-3-RAA, 30-XX-XX-3-RAR, and 30-XX-XX-3-RRA.

In addition, DOE is requiring that ITW test compartments in all relevant equipment configurations, as required by the current test procedure. Any compartments that are convertible between the refrigerator and freezer operating temperature ranges must be tested and rated under both test settings; however, the compartments in the ITW equipment that are convertible between ambient and refrigerator temperature ranges must be tested only at the refrigerator standardized compartment temperature of 38 °F, as described in section III of this notice.

ITW must make representations about the energy use of these basic models for compliance, marketing, or other purposes only to the extent that such equipment have been tested in accordance with the provisions set forth in the alternate test procedure and such representations fairly disclose the results of such testing in accordance with 10 CFR part 429, subpart B.

DOE makes decisions on waivers and interim waivers for only those basic models specifically set out in the petition, not future models that may be manufactured by the petitioner. ITW may request that DOE extend the scope of a waiver or an interim waiver to include additional basic models employing the same technology as the basic models set forth in the original petition consistent with 10 CFR 431.401(g). In addition, DOE notes that granting of an interim waiver or waiver does not release a petitioner from the certification requirements set forth at 10 CFR part 429. See also 10 CFR 431.401(a) and (i).

The interim waiver shall remain in effect consistent with 10 CFR 431.401(h). Furthermore, this interim waiver is conditioned upon the presumed validity of statements, representations, and documents provided by the petitioner. DOE may rescind or modify a waiver or interim waiver at any time upon a determination that the factual basis underlying the petition for waiver or interim waiver is incorrect, or upon a determination that the results from the alternate test procedure are unrepresentative of the basic model's true energy consumption characteristics. See 10 CFR 431.401(k).

V. Alternate Test Procedure

EPCA requires that manufacturers use DOE test procedures when making representations about the energy consumption and energy consumption costs of equipment covered by the statute. (42 U.S.C. 6293(c); 6314(d)) Consistent representations about the energy efficiency of covered equipment are important for consumers evaluating equipment when making purchasing decisions and for manufacturers to demonstrate compliance with applicable DOE energy conservation standards. Pursuant to its regulations applicable to waivers and interim waivers from applicable test procedures at 10 CFR 431.401, and after considering public comments on the petition, DOE will announce its decision as to an alternate test procedure for ITW in a subsequent Decision and Order.

During the period of the interim waiver granted in this notice, ITW shall test the basic models listed in section IV according to the test procedure for commercial refrigeration equipment prescribed by DOE at 10 CFR part 431, subpart C, appendix B, with some of the modifications to the existing DOE test requirements as specified in ITW's petition. However, DOE is requiring that ITW test its Innopod basic models according to the ambient test conditions as outlined in AHRI Standard 1200 (I-P)-2010 section 4.1.2, which requires a wet-bulb test room temperature of 64.4 °F ± 1.8 °F, rather than the conditions requested in the petition for waiver, which instead specify a test room dew point. Additionally, DOE has revised ITW's proposed alternate approach to reference the current version of the AHRI 1200 standard referenced in DOE's existing test procedure, AHRI Standard 1200 (I-P)-2010. DOE has also clarified certain instructions, calculations, and measurements necessary to conduct the alternate test. Accordingly, DOE grants an interim waiver to ITW, but with modifications to ITW's requested approach. The applicable method of test for the specified ITW basic models is the test procedure for commercial refrigeration equipment prescribed by DOE at 10 CFR 431, subpart C, appendix B, with the following modifications:

For the purpose of testing and rating, the Ambient (75 °F) compartment is treated as a Medium (Refrigerator at 75 °F) compartment. All volume and energy consumption calculations will be included within the Medium (Refrigerator 38 °F) category and summed with other Medium (Refrigerator 38 °F) compartment calculation(s). Compartments that are convertible between ambient and refrigerator temperature ranges shall be tested at the refrigerator temperature (38 °F). Compartments that are convertible between refrigerator and freezer (0 °F) temperature ranges shall be tested at both temperatures.

BILLING CODE 6450-01-P

BILLING CODE 6450-01-C

VI. Summary and Request for Comments

Through this notice, DOE announces receipt of ITW's petition for waiver from the DOE test procedure for certain basic models of ITW commercial refrigeration equipment, and announces DOE's decision to grant ITW an interim waiver from the test procedure for the specified basic models of commercial refrigeration equipment. DOE is publishing ITW's petition for waiver in redacted form, pursuant to 10 CFR 431.401(b)(1)(iv). The petition contains confidential information. The petition includes a suggested alternate test procedure to determine the energy consumption of specific basic models of commercial refrigeration equipment. DOE may consider including this alternate procedure in a subsequent Decision and Order based on comments from interested parties. However, DOE has tentatively determined that the alternate procedure proposed by ITW is not entirely acceptable and has provided a modified alternate test procedure as a part of its grant of an interim waiver. DOE will consider public comments on the petition in issuing its Decision and Order.

DOE solicits comments from interested parties on all aspects of the petition, including the suggested alternate test procedure and calculation methodology. Pursuant to 10 CFR 431.401(d), any person submitting written comments to DOE must also send a copy of such comments to the petitioner. The contact information for the petitioner's representative is Ms. Mary Dane, Agency Approval Engineer, ITW Food Equipment Group, LLC, North American Refrigeration, 4401 Blue Mound Rd., Fort Worth, TX 76106. All comment submissions must include the agency name and Case No. CR-007 for this proceeding. Submit electronic comments in WordPerfect, Microsoft Word, Portable Document Format (PDF), or text (American Standard Code for Information Interchange (ASCII)) file format and avoid the use of special characters or any form of encryption. Wherever possible, include the electronic signature of the author. DOE does not accept telefacsimiles (faxes).

Pursuant to 10 CFR 1004.11, any person submitting information that he or she believes to be confidential and exempt by law from public disclosure should submit two copies to DOE: One copy of the document marked “confidential” with all of the information believed to be confidential included, and one copy of the document marked “non-confidential” with all of the information believed to be confidential deleted. DOE will make its own determination about the confidential status of the information and treat it according to its determination.

Issued in Washington, DC, on July 11, 2017.
Kathleen B. Hogan,
Deputy Assistant Secretary for Energy Efficiency, Energy Efficiency and Renewable Energy.

BILLING CODE 6450-01-P

[FR Doc. 2017-15130 Filed 7-18-17; 8:45 am]

BILLING CODE 6450-01-C